SOCIAL SECURITY ADMINISTRATION

[Docket No. SSA-2021-0008]

Request for Information on the Foundations for Evidence-Based Policymaking Act of 2018 Learning Agenda

AGENCY: Social Security Administration.

ACTION: Request for information.

SUMMARY: The Foundations for Evidence-Based Policymaking Act of 2018 (Evidence Act) and implementing Executive Branch guidance requires Federal agencies to develop an evidence-building plan, referred to as a Learning Agenda, to identify and address questions relevant to agency programs, policies, and regulations. Through this Request for Information (RFI), we seek public input to help us identify priority questions to guide our evidence-building activities.

DATES: To ensure that your comments are considered, we must receive them no later than May 20, 2021.

You may submit comments by any one of three methods—internet, fax, or mail. Do not submit the same comments multiple times or by more than one method. Regardless of which method you choose, please state that your comments refer to Docket No. SSA-2021-0008 so that we may associate your comments with the correct docket.

Caution: You should be careful to include in your comments only information that you wish to make publicly available. We strongly urge you not to include in your comments any personal information, such as Social Security numbers or medical information.

1. Internet: We strongly recommend that you submit your comments via the internet. Please visit the Federal eRulemaking portal at http://www.regulations.gov. Use the Search function to find docket number SSA-2021-0008. The system will issue a tracking number to confirm your submission. You will not be able to view your comment immediately because we must post each comment manually. It may take up to a week for your comment to be viewable.

2. Fax: Fax comments to (410) 966-2830.

3. Mail: Mail your comments to the Office of Regulations, Social Security Administration, 3100 West High Rise Building, 6401 Security Boulevard, Baltimore, Maryland 21235-6401.

Comments are available for public viewing on the Federal eRulemaking portal at http://www.regulations.gov or in person, during regular business hours, by arranging with the contact person identified below.

FOR FURTHER INFORMATION CONTACT: Robert Weathers, Office of Retirement and Disability Policy, Social Security Administration (SSA), 6401 Security Boulevard, Baltimore, Maryland 21235-6401, (410) 615-6965. For information on eligibility or filing for benefits, call our national toll-free number, 1-800-325-0778, or visit our internet site, Social Security Online, at http://www.socialsecurity.gov.

SUPPLEMENTARY INFORMATION: The Evidence Act ¹ requires Federal agencies to develop “a systematic plan for identifying and addressing policy questions relevant to the programs, policies, and regulations of the agency.” ² This plan, referred to as a Learning Agenda, offers the opportunity for us to use data in order to address the key questions we want to answer to improve our operational and programmatic outcomes and to establish strategies to develop evidence to answer important short-and long-term strategic and operational questions.³ We seek public comments to inform the development of our Learning Agenda.

¹ Public Law 115-435, 132 Stat. 5529.

² 5 U.S.C. 312(a).

³ See Memorandum for Heads of Executive Departments and Agencies, from Russell T. Vought, Phase 1 Implementation of the Foundations for Evidence-Based Policymaking Act of 2018: Learning Agendas, Personnel, and Planning Guidance (July 10, 2019)

Background

In fiscal year (FY) 2021, our programs will provide a combined total of about $1.2 trillion in benefit payments to an average of over 70 million beneficiaries. The major programs we administer—the Old-Age Survivors and Disability Insurance program and the Supplemental Security Income program—provide an important source of economic security for millions of Americans. Our fundamental mission is to deliver quality Social Security services to the public.

We conduct evidence-building activities that include pilot projects, demonstration projects, quantitative studies, qualitative studies, and mixed methods studies that inform important priorities, such as delivering services effectively, improving the way we conduct business, updating policies and regulations, and ensuring effective stewardship. For example, we have conducted evidence-building activities to inform our efforts to modernize the Social Security Statement. This aligns with our FYs 2018-2022 Agency Strategic Plan, which includes modernizing the Social Security Statement to increase the public's understanding of our programs as a strategy.

We have also conducted extramural research, demonstration projects, and outreach under Sections 234, 1110, and 1144 of the Social Security Act (Act).⁴ Sections 234 and 1110 of the Act provide us with authority to conduct extramural research and demonstration projects, while section 1144 of the Act addresses outreach activities to inform and assist Medicare beneficiaries with low income who may be eligible for Medicare cost sharing or subsidized prescription drug coverage. We currently fund a range of projects designed to:

⁴ 42 U.S.C. 434, 1310, 1315, and 1320b-14, respectively.

• Help us keep pace with advancements in medicine and technology;

• Modernize our vocational rules;

• Test models that promote labor force participation;

• Analyze program trends, gaps, and inconsistencies; and

• Measure the public's understanding of our programs, as well as the impact of program changes.

For more information on such projects, please see the “Research, Demonstration Projects, and Outreach” section of the Supplemental Security Income Program technical supporting materials to our FY 2021 Budget submission that is located on our website: https://www.ssa.gov/budget/FY21Files/2021SSI.pdf.

Request for Information

Through this RFI, we are asking interested persons, including stakeholders across public and private sectors who may be familiar with or interested in the work of our agency, for input on evidence-building activities that inform important priorities for our agency, including those that are related to the President's broader priorities that are available at https://www.whitehouse.gov/priorities/. We also seek input on future projects that will advance our mission.

We invite suggestions in various forms—as key questions to be answered, hypotheses to be tested, or problems to be investigated—that are focused on any area of our mission, including service delivery, operations, programs, policies, regulations, communication, and stewardship. The responses to this RFI that interested persons submit to us will inform our ongoing development of a set of priorities that will guide evidence-building activities. We will analyze information collected from this RFI to inform the development of our Learning Agenda. This RFI is for information and planning purposes only and should not be construed as a solicitation or as an obligation on our part. We will not respond to the comments we received in response to this RFI, but will use the input to develop our Learning Agenda.

The Commissioner of Social Security, Andrew Saul, having reviewed and approved this document, is delegating the authority to electronically sign this document to Faye I. Lipsky, who is the primary Federal Register Liaison for SSA, for purposes of publication in the Federal Register.

Faye I. Lipsky,
Federal Register Liaison, Office of Legislation and Congressional Affairs, Social Security Administration.

[FR Doc. 2021-08115 Filed 4-19-21; 8:45 am]

BILLING CODE 4191-02-P